ENVIRONMENTAL PROTECTION AGENCY

[OPPTS-51943; FRL-6497-6]

Certain New Chemicals; Receipt and Status Information

AGENCY: Environmental Protection Agency (EPA).

ACTION: Notice.

SUMMARY: Section 5 of the Toxic Substances Control Act (TSCA) requires any person who intends to manufacture (defined by statute to include import) a new chemical (i.e., a chemical not on the TSCA Inventory) to notify EPA and comply with the statutory provisions pertaining to the manufacture of new chemicals. Under sections 5(d)(2) and 5(d)(3) of TSCA, EPA is required to publish a notice of receipt of a premanufacture notice (PMN) or an application for a test marketing exemption (TME), and to publish periodic status reports on the chemicals under review and the receipt of notices of commencement to manufacture those chemicals. This status report, which covers the period from February 14, 2000 to February 25, 2000, consists of the PMNs and TMEs, both pending or expired, and the notices of commencement to manufacture a new chemical that the Agency has received under TSCA section 5 during this time period.

ADDRESSES: Comments may be submitted by mail, electronically, or in person. Please follow the detailed instructions for each method as provided in Unit I. of the “SUPPLEMENTARY INFORMATION.” To ensure proper receipt by EPA, it is imperative that you identify docket control number OPPTS-51943 and the specific PMN number in the subject line on the first page of your response.

FOR FURTHER INFORMATION CONTACT: Barbara Cunningham, Director, Office of Program Management, and Evaluation, Office of Pollution Prevention and Toxics (7401), Environmental Protection Agency, Ariel Rios Bldg., 1200 Pennsylvania Ave., NW., Washington, DC 20460; telephone numbers: (202) 554-1404; e-mail address: TSCA-Hotline@epa.gov.

SUPPLEMENTARY INFORMATION:

I. General Information

A. Does this Action Apply to Me?

This action is directed to the public in general. As such, the Agency has not attempted to describe the specific entities that this action may apply to. Although others may be affected, this action applies directly to the submitter of the premanufacture notices addressed in the action. If you have any questions regarding the applicability of this action to a particular entity, consult the person listed under “FOR FURTHER INFORMATION CONTACT.”

B. How Can I Get Additional Information, Including Copies of this Document and Other Related Documents?

1. Electronically. You may obtain copies of this document and certain other available documents from the EPA Internet Home Page at http://www.epa.gov/. On the Home Page select “Laws and Regulations” and then look up the entry for this document under the “Federal Register Environmental Documents.” You can also go directly to the “Federal Register” listings at http://www.epa.gov/fedrgstr/.

2. In person. The Agency has established an official record for this action under docket control number OPPTS-51943. The official record consists of the documents specifically referenced in this action, any public comments received during an applicable comment period, and other information related to this action, including any information claimed as confidential business information (CBI). This official record includes the documents that are physically located in the docket, as well as the documents that are referenced in those documents. The public version of the official record does not include any information claimed as CBI. The public version of the official record, which includes printed, paper versions of any electronic comments submitted during an applicable comment period, is available for inspection in the TSCA Nonconfidential Information Center, North East Mall Rm. B-607, Waterside Mall, 401 M St., SW., Washington, DC. The Center is open from noon to 4 p.m., Monday through Friday, excluding legal holidays. The telephone number of the Center is (202) 260-7099.

C. How and to Whom Do I Submit Comments?

You may submit comments through the mail, in person, or electronically. To ensure proper receipt by EPA, it is imperative that you identify docket control number OPPTS-51943 and the specific PMN number in the subject line on the first page of your response.

1. By mail. Submit your comments to: Document Control Office (7407), Office of Pollution Prevention and Toxics (OPPT), Environmental Protection Agency, Ariel Rios Bldg., 1200 Pennsylvania Ave., NW., Washington, DC 20460.

2. In person or by courier. Deliver your comments to: OPPT Document Control Office (DCO) in East Tower Rm. G-099, Waterside Mall, 401 M St., SW., Washington, DC. The DCO is open from 8 a.m. to 4 p.m., Monday through Friday, excluding legal holidays. The telephone number for the DCO is (202) 260-7093.

3. Electronically. You may submit your comments electronically by e-mail to: “oppt.ncic@epa.gov,” or mail your computer disk to the address identified in this unit. Do not submit any information electronically that you consider to be CBI. Electronic comments must be submitted as an ASCII file avoiding the use of special characters and any form of encryption. Comments and data will also be accepted on standard disks in WordPerfect 6.1/8.0 or ASCII file format. All comments in electronic form must be identified by docket control number OPPTS-51943 and the specific PMN number. Electronic comments may also be filed online at many Federal Depository Libraries.

D. How Should I Handle CBI that I Want to Submit to the Agency?

Do not submit any information electronically that you consider to be CBI. You may claim information that you submit to EPA in response to this document as CBI by marking any part or all of that information as CBI. Information so marked will not be disclosed except in accordance with procedures set forth in 40 CFR part 2. In addition to one complete version of the comment that includes any information claimed as CBI, a copy of the comment that does not contain the information claimed as CBI must be submitted for inclusion in the public version of the official record. Information not marked confidential will be included in the public version of the official record without prior notice. If you have any questions about CBI or the procedures for claiming CBI, please consult the person listed under “FOR FURTHER INFORMATION CONTACT.”

E. What Should I Consider as I Prepare My Comments for EPA?

You may find the following suggestions helpful for preparing your comments:

1. Explain your views as clearly as possible.

2. Describe any assumptions that you used.

3. Provide copies of any technical information and/or data you used that support your views.

4. If you estimate potential burden or costs, explain how you arrived at the estimate that you provide.

5. Provide specific examples to illustrate your concerns.

6. Offer alternative ways to improve the notice or collection activity.

7. Make sure to submit your comments by the deadline in this document.

8. To ensure proper receipt by EPA, be sure to identify the docket control number assigned to this action in the subject line on the first page of your response. You may also provide the name, date, and Federal Register citation.

II. Why is EPA Taking this Action?

Section 5 of TSCA requires any person who intends to manufacture (defined by statute to include import) a new chemical (i.e., a chemical not on the TSCA Inventory to notify EPA and comply with the statutory provisions pertaining to the manufacture of new chemicals. Under sections 5(d)(2) and 5(d)(3) of TSCA, EPA is required to publish a notice of receipt of a PMN or an application for a TME and to publish periodic status reports on the chemicals under review and the receipt of notices of commencement to manufacture those chemicals. This status report, which covers the period from February 14, 2000 to February 25, 2000, consists of the PMNs and TMEs, both pending or expired, and the notices of commencement to manufacture a new chemical that the Agency has received under TSCA section 5 during this time period.

III. Receipt and Status Report for PMNs

This status report identifies the PMNs and TMEs, both pending or expired, and the notices of commencement to manufacture a new chemical that the Agency has received under TSCA section 5 during this time period. If you are interested in information that is not included in the following tables, you may contact EPA as described in Unit II. to access additional non-CBI information that may be available.

In table I, EPA provides the following information (to the extent that such information is not claimed as CBI) on the PMNs received by EPA during this period: the EPA case number assigned to the PMN; the date the PMN was received by EPA; the projected end date for EPA's review of the PMN; the submitting manufacturer; the potential uses identified by the manufacturer in the PMN; and the chemical identity.

I. 59 Premanufacture Notices Received From: 02/14/00 to 02/25/00
Case No. | Received Date | Projected Notice End Date | Manufacturer/Importer | Use | Chemical
P-00-0502 | 02/15/00 | 05/15/00 | Lambent Technologies Corporation | (S) Metalworking fluids (lubricants & coolant); machine lubricants; agricultural (emulsifier); lumber industry (emulsifier) | (S) Glycerides, C14-22 and C16-22-unsatd., ethoxylated propoxylated*
P-00-0503 | 02/15/00 | 05/15/00 | Lambent Technologies Corporation | (S) Metalworking fluids (lubricants & coolant); machine lubricants; agricultural (emulsifier); lumber industry (emulsifier) | (S) Glycerides, C14-22 and C16-22-unsatd., ethoxylated*
P-00-0504 | 02/15/00 | 05/15/00 | Lambent Technologies Corporation | (S) Metalworking fluids (lubricants & coolant); machine lubricants; agricultural (emulsifier); lumber industry (emulsifier) | (S) Glycerides, C14-22 and C16-22-unsatd., propoxylated*
P-00-0505 | 02/14/00 | 05/14/00 | CBI | (G) Destructive use | (G) Substituted diphenyl imidazole
P-00-0506 | 02/14/00 | 05/14/00 | CBI | (G) Intermediate | (G) Sodium salt of a naphthalene azo dyestuff
P-00-0507 | 02/15/00 | 05/15/00 | Zeon Chemicals L.P. | (G) High molecular weight polyether polymer for electrical aplications | (S) Oxirane, methyl-, polymer with oxirane and [(2-propenyloxy)methyl]oxirane*
P-00-0508 | 02/15/00 | 05/15/00 | CBI | (G) Destructive use | (G) Bis(halophenyl)-dialkoxyphenyl imidazole
P-00-0509 | 02/14/00 | 05/14/00 | CBI | (S) Resin for inks | (G) Polyether polyurethane
P-00-0510 | 02/15/00 | 05/15/00 | Reichhold, Inc. | (S) Wood coating | (G) Anionic oil modified polyurethane dispersion
P-00-0511 | 02/14/00 | 05/14/00 | Shell Chemical Co. | (S) Coating for railcars; coating for marine vessels | (S) Formaldehyde, oligomeric reaction products with 4,4′-isopropylidenediphenol and m-phenylenebis(methylamine)*
P-00-0512 | 02/14/00 | 05/14/00 | CBI | (G) Ink jet ink | (G) Mixed ammonium/sodium salt of naphthalene azo dyestuff
P-00-0513 | 02/14/00 | 05/14/00 | CBI | (G) Dye for cotton | (G) Arylazo substituted sufonated naphthalene compound
P-00-0514 | 02/14/00 | 05/14/00 | CBI | (G) Initiator, contained use | (G) Substituted diphenyl imidazolyl imidazole
P-00-0515 | 02/15/00 | 05/15/00 | CIBA Specialty Chemicals Corporation | (S) Photoinitiator for uv-cured coatings and uv-cured printing inks | (G) Organoiodonium salt
P-00-0516 | 02/14/00 | 05/14/00 | CBI | (G) Dye for cotton | (G) Sulfonated dioxazine compound
P-00-0517 | 02/14/00 | 05/14/00 | CBI | (G) Dye for cotton | (G) Arylazo substituted sulfonated naphthalene compound
P-00-0518 | 02/16/00 | 05/16/00 | CBI | (G) Chemical intermediate | (G) Perfluoroalkyl dicarboxylate
P-00-0519 | 02/16/00 | 05/16/00 | CBI | (G) Ingredient for use in consumer products; highly dispersive use. | (G) Methyl carboxypentanoate
P-00-0520 | 02/16/00 | 05/16/00 | CBI | (S) Chemical intermediate | (G) Perfluoroalkyl epoxide
P-00-0521 | 02/16/00 | 05/16/00 | CBI | (G) Polymeric thickener for aqueous systems | (G) Hydrophobe modified ethoxylated polyurethane (heur)
P-00-0522 | 02/16/00 | 05/16/00 | CBI | (G) Polymeric thickener for aqueous systems | (G) Hydrophobe modified ethoxylated polyurethane (heur)
P-00-0523 | 02/16/00 | 05/16/00 | CBI | (G) Polymeric thickener for aqueous systems | (G) Hydrophobe modified ethoxylated polyurethane (heur)
P-00-0524 | 02/16/00 | 05/16/00 | CBI | (G) Polymeric thickener for aqueous systems | (G) Hydrophobe modified ethoxylated polyurethane (heur)
P-00-0525 | 02/16/00 | 05/16/00 | CBI | (G) Polymeric thickener for aqueous systems | (G) Hydrophobe modified ethoxylated polyurethane (heur)
P-00-0526 | 02/16/00 | 05/16/00 | CBI | (G) Polymeric thickener for aqueous systems | (G) Hydrophobe modified ethoxylated polyurethane (heur)
P-00-0527 | 02/16/00 | 05/16/00 | CBI | (G) Open non-dispersive use | (G) Polyester resin
P-00-0528 | 02/16/00 | 05/16/00 | Elf Atochem North America, Inc. | (G) Metalworking lubricant | (G) Alkali salts of aryl carboxylates
P-00-0529 | 02/16/00 | 05/16/00 | E.I. Du Pont De Nemours & Co. | (G) Polyamide additive | (G) Terpolyamide or copolyamide
P-00-0530 | 02/16/00 | 05/16/00 | CBI | (S) Chemical intermediate | (G) Perfluoroalkyl acrylate
P-00-0531 | 02/22/00 | 05/22/00 | Wacker silicones corp. | (S) Catalyst for htv silicon rubbers | (G) 1,5-cyclooctadiene, platinum complex
P-00-0532 | 02/22/00 | 05/22/00 | CBI | (G) Destructive use | (G) Alkoxy alkyl aluminum halide
P-00-0533 | 02/18/00 | 05/18/00 | Henkel Corp., Chemicals Group | (G) Dispersing agent | (S) Propanoic acid, 3-hydroxy-2-(hydroxymethyl)-2-methyl-, polymer with 2,2'′-[1,4-butanediylbis (oxymethylene)]bis[oxirane], dihydro-3-(tetrapropenyl)-2,5-furandione and α-hydro-omega-hydroxypoly(oxy-1,2-ethanediyl)- compd. with 2-(dimethylamino)ethanol*
P-00-0534 | 02/22/00 | 05/22/00 | CBI | (G) Coating component | (G) Copolymer of alkyl acrylates
P-00-0535 | 02/18/00 | 05/18/00 | Condea Vista Company | (S) Feedstock for esterification | (S) 1-octadecanol, manuf. of distn. lights, fractionation heavies, distn. lights*
P-00-0536 | 02/18/00 | 05/18/00 | U.S. Polymers Inc. | (S) A water soluble polyester for two component urethane coatings | (G) Reaction product of: polyoxyalkylene solution with trimethylolpropane, 1,4, cyclohexane dimethanol, cyclic aliphatic anhydrides, trimellitic anhydride and block copolymers of ethylene oxide + propylene oxide
P-00-0537 | 02/18/00 | 05/18/00 | U.S. Polymers Inc. | (S) A water soluble polyester for two component urethane coatings | (G) Reaction product: polyoxyalkylene solution with trimethylolpropane, 1,4 cyclohexane dimethanol, cyclic aliphatic anhydrides and trimellitic anhydride
P-00-0538 | 02/22/00 | 05/22/00 | CIBA Specialty Chemicals Corporation | (G) Isolated intermediate | (G) Piperidinol derivative
P-00-0539 | 02/22/00 | 05/22/00 | CBI | (G) Open non-dispersive (resin) | (G) Blocked polyisocyanate
P-00-0540 | 02/22/00 | 05/22/00 | CBI | (S) Processing aid for leather finishing | (G) Saturated dicarboxylic acid, polymer with polyester, polyamide and substituted carboxylic acids
P-00-0541 | 02/23/00 | 05/23/00 | Eastman Chemical Company | (S) Chemical intermediate | (G) Chloro nitro phenyl ether
P-00-0542 | 02/22/00 | 05/22/00 | Vianova Resins Incorporated | (S) Resin for can coatings;resin for tube coatings | (G) Modified phenol formaldehyde resin
P-00-0543 | 02/23/00 | 05/23/00 | CBI | (G) Polymerization initiator | (S) Petanoic acid, 5,5′-dioxybis[5-oxo-]*
P-00-0544 | 02/22/00 | 05/22/00 | 3M Company | (S) Heat transfer;metal working;testing | (G) Hydrofluoroether
P-00-0545 | 02/22/00 | 05/22/00 | CIBA Specialty Chemicals Corporation | (S) Light stabilizer for polyolefins | (G) Piperidinyl derivative
P-00-0546 | 02/23/00 | 05/23/00 | CBI | (G) Dispersant/anti-agglomerant | (G) Alkyloxy-hydroxypropyl, trialkylamine, ammonium chloride
P-00-0547 | 02/23/00 | 05/23/00 | CBI | (G) Precursor for dispersant/anti-agglomerant | (G) Alkyloxy-hydroxypropyl, dialkylamine
P-00-0548 | 02/23/00 | 05/23/00 | CBI | (G) Additive for inks and coatings | (G) Polyurethane acrylate ester
P-00-0549 | 02/23/00 | 05/23/00 | CBI | (G) Additive for inks and coatings | (G) Polyurethane acrylate ester
P-00-0550 | 02/23/00 | 05/23/00 | CBI | (S) Chemical intermediate | (G) Acrylate ester
P-00-0551 | 02/23/00 | 05/23/00 | CBI | (G) Polymerization initiator | (S) Butaneperoxoic acid, 2-ethyl-, 1,1-dimethylethyl ester*
P-00-0552 | 02/25/00 | 05/25/00 | CBI | (G) Photocopying chemical | (G) Salicylic acid, zirconium salt
P-00-0553 | 02/25/00 | 05/25/00 | Toagosei America Inc. | (S) Base material for acrylic coating | (S) 2-propenoic acid, 2-methyl-, 2-methylpropyl ester, telomer with 3-mercaptopropanoic acid, 2-hydroxy-3-[(2-methyl-1-oxo-2-propenyl)oxy]propyl ester*
P-00-0554 | 02/25/00 | 05/25/00 | CBI | (G) Molded Parts Manufacture | (G)Diphenylmethane diisocyanate (mix of 4,4 isomers Terminated Polyester Poloyol*
P-00-0555 | 02/25/00 | 05/25/00 | Wacker Silicones Corp. | (S) Plasters;building adhesive;hydrophobic coatings | (S) Neodecanoic acid, ethenyl ester, polymer with ethene and ethenyl acetate*
P-00-0556 | 02/25/00 | 05/25/00 | CBI | (G) Open non-dispersive (thickening agent) | (G) Polyurethane
P-00-0560 | 02/25/00 | 05/25/00 | CBI | (G) Thickening compound for aqueous systems | (G) Acrylic emulsion polymer
P-00-0561 | 02/25/00 | 05/25/00 | CBI | (G) Thickening compound for aqueous systems | (G) Acrylic emulsion polymer
P-00-0562 | 02/25/00 | 05/25/00 | CBI | (G) Thickening compound for aqueous systems | (G) Acrylic emulsion polymer
P-00-0563 | 02/25/00 | 05/25/00 | CBI | (G) Thickening compound for aqueous systems | (G) Acrylic emulsion polymer

In table II, EPA provides the following information (to the extent that such information is not claimed as CBI) on the TMEs received:

II. 1 Test Marketing Exemption Notice Received From: 02/14/00 to 02/25/00
Case No. | Received Date | Projected Notice End Date | Manufacturer/Importer | Use | Chemical
T-00-0002 | 02/14/00 | 03/30/00 | Lonza Inc. | (G) Organic intermediate (destructive use) | (S) N,N′-(2,5-dimethyl-1,4-phenylene)-bis-(3-oxo)-butanamide*

In table III, EPA provides the following information (to the extent that such information is not claimed as CBI) on the Notices of Commencement to manufacture received:

III. 29 Notices of Commencement From: 02/14/00 to 02/25/00
Case No. | Received Date | Commencement/ Import Date | Chemical
P-00-0028 | 02/16/00 | 02/07/00 | (G) Modified acrylic polymer
P-00-0046 | 02/15/00 | 01/29/00 | (G) Aromatic substituted diurea
P-00-0062 | 02/22/00 | 01/25/00 | (G) Metal complex tribromo tetrakis dimethyl methylethyl propoxy pthalocyanine derivative
P-00-0083 | 02/16/00 | 01/29/00 | (G) Trimethylolpropane ester polymer
P-00-0120 | 02/18/00 | 02/09/00 | (G) Hydroxy functional acrylic polymer
P-98-0524 | 02/14/00 | 02/02/00 | (G) Hydrocy functional oligomer
P-99-0305 | 02/24/00 | 02/02/00 | (G) Bisphenol a type polyester resin
P-99-0511 | 02/18/00 | 01/28/00 | (G) Mixed metal oxide
P-99-0642 | 02/14/00 | 02/02/00 | (G) Organomodified polysiloxane resin
P-99-0657 | 02/15/00 | 02/03/00 | (G) Sodium alkoxide
P-99-0665 | 02/14/00 | 02/03/00 | (G) Organomodified polysiloxane resin
P-99-0915 | 02/22/00 | 01/18/00 | (G) Chromate, [[[(substituted)nitrophenyl] azo]naphthalenedisulfoanto] [[[(substituted)phenyl]azo]phenylbutanamidato]-, trisodium; chromate, bis [[[(substituted)nitrophenyl] azo]naphthalenedisulfoanto]-, pentasodium; chromate, bis [[[(substituted)phenyl]azo]phenylbutanamidato]-, sodium*
P-99-0928 | 02/15/00 | 02/01/00 | (S) Ethanol, 2-[2-(C12-14-alkyloxy) ethoxy] derivs., hydrogen sulfates, compds. with triisopropanolamine*
P-99-0982 | 02/22/00 | 01/18/00 | (G) Chromate, bis[[[(substitued) (phenylamino)ethyl]azo](substituted) benzenedisulfonato]-, potassium tetrasodium
P-99-0984 | 02/18/00 | 01/14/00 | (G) Urethane acrylate oligomer
P-99-0985 | 02/24/00 | 02/08/00 | (G) 1,3,6-substitutednapthalene-7-[[4,5-dihydro-3-methyl-5-oxo-1-(4-substitutedphenyl)-1H-pyrazol-4-yl]azo]-, tetrasodium salt
P-99-0986 | 02/24/00 | 02/08/00 | (G) 1,3,6-substitutednapthalene-7-[[4,5-dihydro-3-methyl-5-oxo-1-(4-substitutedphenyl)-1H-pyrazol-4-yl]azo]-, tetrapotassium salt
P-99-1008 | 02/23/00 | 02/16/00 | (G) Polyimide precursor solution
P-99-1042 | 02/22/00 | 01/27/00 | (G) Alkoxylated dimer fatty acid, tall oil fatty acid ester
P-99-1081 | 02/14/00 | 02/02/00 | (G) Saturated dicarboxylic acid, polymer with polyester, polyamide and substituted carboxylic acids
P-99-1082 | 02/22/00 | 01/28/00 | (G) Inorganic salt
P-99-1089 | 02/22/00 | 02/11/00 | (G) Polyether carboxylate
P-99-1091 | 02/22/00 | 02/11/00 | (G) Polyether carboxylate
P-99-1106 | 02/23/00 | 02/07/00 | (G) Sulfinic acid derivative
P-99-1150 | 02/24/00 | 02/03/00 | (G) Cuprate (3)[3-hydroxy xo)4-[[2-(hydroxy-xo) carbomonocycle] azo xn'] carbopolycycle
P-99-1247 | 02/14/00 | 02/04/00 | (G) Polymonomeric polyurethane
P-99-1252 | 02/24/00 | 02/06/00 | (G) Polyamine adducts
P-99-1322 | 02/24/00 | 02/10/00 | (G) Vegetable oil, chlorosulfurized
P-99-1367 | 02/23/00 | 02/14/00 | (G) Allphatic anionic polyurethane dispersion in water

List of Subjects

Environmental protection, Chemicals, Premanufacturer notices.

Dated: March 16, 2000.
Deborah A. Williams,
Acting Director, Information Management Division, Office of Pollution Prevention and Toxics.

[FR Doc. 00-7248 Filed 3-22-00; 8:45 am]

BILLING CODE 6560-50-F